DEPARTMENT OF COMMERCE

National Oceanic and Atmospheric Administration

50 CFR Part 622

[Docket No. 160426363-7275-02; RTID 0648-XE727 ]

Coastal Migratory Pelagic Resources of the Gulf of Mexico and Atlantic Region; 2024-2025 Closure of Commercial Run-Around Gillnet Fishery for King Mackerel

AGENCY: National Marine Fisheries Service (NMFS), National Oceanic and Atmospheric Administration (NOAA), Commerce.

ACTION: Temporary rule; closure.

SUMMARY: NMFS closes commercial harvest of king mackerel using run-around gillnet gear in the southern zone of the Gulf of Mexico (Gulf) exclusive economic zone (EEZ). NMFS has determined that the commercial landings of king mackerel harvested by run-around gillnet gear in the southern zone have reached the annual catch limit (ACL). Therefore, NMFS implements an accountability measure (AM) and closes the southern zone to commercial king mackerel fishing using run-around gillnet gear in the Gulf EEZ. This closure is necessary to protect the Gulf king mackerel resource.

DATES: The closure is effective from 12 p.m. local time on March 20, 2025, until 6 a.m. local time on January 20, 2026.

FOR FURTHER INFORMATION CONTACT: Daniel Luers, NMFS Southeast Regional Office, telephone: 727-824-5305, email: daniel.luers@noaa.gov.

SUPPLEMENTARY INFORMATION: The fishery for coastal migratory pelagic fish in the Gulf includes king mackerel, Spanish mackerel, and cobia, and is managed under the Fishery Management Plan for the Coastal Migratory Pelagic Resources of the Gulf of Mexico and Atlantic Region (FMP). The FMP was prepared by the Gulf of Mexico and South Atlantic Fishery Management Councils and approved by the Secretary of Commerce. NMFS implements the FMP under the authority of the Magnuson-Stevens Fishery Conservation and Management Act (Magnuson-Stevens Act) by regulations at 50 CFR part 622. All weights for the Gulf migratory group of king mackerel (Gulf king mackerel) apply as either round or gutted weight.

On January 20, 2025, President Trump issued Executive Order 14172 to rename the Gulf of Mexico as the Gulf of America. However, the Magnuson-Stevens Act contains several references to the Gulf of Mexico, including a provision at 16 U.S.C. 1852(a)(1)(E) that establishes the “Gulf of Mexico Fishery Management Council” and specifies responsibilities vis-a-vis “fisheries in the Gulf of Mexico seaward of” specified States. In this action, NMFS is using terminology consistent with wording in the Magnuson-Stevens Act.

The commercial fishery for Gulf king mackerel is divided into western, northern, and southern zones. The southern zone for Gulf king mackerel encompasses an area of the Gulf EEZ off Collier and Monroe Counties in south Florida, south of a line extending due west from the boundary of Lee and Collier Counties on the Florida west coast, and south of a line extending due east from the boundary of Monroe and Miami-Dade Counties on the Florida east coast (50 CFR 622.369(a)(1)(iii)). For an illustration of the king mackerel zones, see Figure 1 in Appendix G to part 622 at https://www.ecfr.gov/current/title-50/chapter-VI/part-622/appendix-Appendix%20G%20to%20Part%20622.

The commercial ACL for Gulf king mackerel is divided into separate ACLs for hook-and-line and run-around gillnet gear. The use of run-around gillnets for king mackerel is restricted to the Gulf southern zone. For the 2024-2025 fishing year, the king mackerel commercial gillnet quota (equivalent to the commercial gillnet ACL) is 671,328 pounds (304,509 kilograms) (50 CFR 622.384(b)(1)(iii)(B)). The fishing year for the harvest of Gulf king mackerel in the southern zone is from July 1 through June 30 (50 CFR 622.7(b)(1)(i)).

Regulations at 50 CFR 622.388(a)(1) require NMFS to close any component of the king mackerel commercial sector when NMFS projects that commercial landings have reached or are projected to reach the applicable quota by filing a notification to that effect with the Office of the Federal Register. NMFS has determined that for the 2024-2025 fishing year, landings have reached the commercial quota for Gulf king mackerel harvested by vessels using run-around gillnet gear in the southern zone. Accordingly, commercial fishing using such gear in the southern zone is closed at 12 p.m. local time on March 20, 2025. Vessel operators issued a Federal commercial permit to harvest Gulf king mackerel using run-around gillnet gear in the southern zone must have landed ashore and bartered, traded, or sold such king mackerel prior to 12 p.m. local time on March 20, 2025.

Persons on a vessel using hook-and-line gear in the southern zone for which a Federal commercial permit for Gulf king mackerel has been issued, except persons on such a vessel also issued a Federal commercial permit to harvest Gulf king mackerel using run-around gillnet gear, may fish for or retain Gulf king mackerel unless the southern zone commercial quota for hook-and-line gear has been met and the hook-and-line component of the commercial sector has been closed. In addition, as long as the recreational sector for Gulf king mackerel is open (50 CFR 622.384(e)(1)), a person on a vessel that has a valid Federal commercial gillnet permit for king mackerel may continue to retain king mackerel under the recreational bag and possession limits set forth in 50 CFR 622.382(a)(1)(ii) and (a)(2).

During the commercial closure, Gulf king mackerel harvested using run-around gillnet gear in the southern zone may not be purchased or sold. This prohibition does not apply to Gulf king mackerel harvested using run-around gillnet gear in the southern zone that were harvested, landed ashore, and sold prior to the closure and were held in cold storage by a dealer or processor (50 CFR 622.384(e)(2)).

Classification

NMFS issues this action pursuant to section 305(d) of the Magnuson-Stevens Act. This action is required by 50 CFR 622.388(a)(1), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedure is unnecessary because the regulations associated with the commercial quota and associated AM for Gulf king mackerel have already been subject to notice and public comment, and all that remains is to notify the public of the closure. Prior notice and opportunity for public comment on this action is contrary to the public interest because of the need to immediately implement the closure to protect the Gulf king mackerel resource. The capacity of the commercial fishing fleet allows for rapid harvest of the commercial quota, and any delay in the closure could result in the commercial quota being exceeded. Prior notice and opportunity for public comment would require time and would potentially result in a harvest that exceeds the commercial quota.

For the reasons just stated, there is good cause under 5 U.S.C. 553(d)(3) to waive the 30-day delay in effectiveness of this action.

Authority: 16 U.S.C. 1801 et seq.

Dated: March 17, 2025.
Karen H. Abrams,
Acting Director, Office of Sustainable Fisheries, National Marine Fisheries Service.

[FR Doc. 2025-04783 Filed 3-17-25; 4:15 pm]

BILLING CODE 3510-22-P